DEPARTMENT OF TRANSPORTATION

Pipeline and Hazardous Materials Safety Administration

Hazardous Materials: Notice of Applications for Special Permits

AGENCY: Pipeline and Hazardous Materials Safety Administration (PHMSA), DOT.

ACTION: List of Applications for Modification of Special Permit.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 30, 2016.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC, or at http://regulations.gov.

This notice of receipt of applications for special permit is published in accordance with Part 107 of the Federal hazardous materials transportation law (49 U.S.C. 5117(b); 49 CFR 1.53(b)).

Issued in Washington, DC, on August 19, 2016.
Donald Burger,
Chief, Office of the Special Permits and Approvals.

Application No. | Docket No. | Applicant | Regulation(s) affected | Nature of the special permits thereof
SPECIAL PERMITS DATA
10704-M |  | Boost Oxygen, LLC | 173.302a(a)(1) | To modify the special permit to authorize an additional packaging.
11110-M |  | United Parcel Service Co | 175.75, 175.75 | To modify the special permit to authorize certain Class 8 hazardous materials which have no assigned packing group to be transported under the terms of the special permit.
13307-M |  | United Phosphorus Inc | 172.500, 172.504, 172.504, 172.504, 172.504, 172.504, 172.506 | To modify the special permit to authorize a new hazmat and new packaging.
13996-M |  | TK Holdings Inc |  | To update the permit to bring it in line with regulatory changes made in HM-254 and HM-215M.
14175-M |  | Linde Gas North America LLC | 180.209(b) | To authorize an additional hazmat to be carried in the permitted cylinders.
15869-M |  | Mercedes-Benz USA, LLC |  | To modify the special permit to authorize the transportation of production run lithium ion batteries weighing over 35 kg by cargo aircraft.

[FR Doc. 2016-20588 Filed 8-30-16; 8:45 am]

BILLING CODE 4909-60-M